DEPARTMENT OF DEFENSE

Department of the Army, Corps of Engineers

ENVIRONMENTAL PROTECTION AGENCY

DEPARTMENT OF THE INTERIOR

Office of Surface Mining

Fish and Wildlife Service

Final Programmatic Environmental Impact Statement for Mountaintop Mining and Valley Fills

AGENCIES: U.S. Army Corps of Engineers, Department of the Army, DOD; Environmental Protection Agency; Office of Surface Mining and Fish and Wildlife Service, Interior; and West Virginia Department of Environmental Protection.

ACTION: Announcement of availability of Final Programmatic Environmental Impact Statement (FPEIS).

SUMMARY: The above agencies announce the availability of the FPEIS that considers developing policies, guidance, and coordinated agency decision-making processes to minimize, to the maximum extent practicable, the adverse environmental effects to waters of the United States and to fish and wildlife resources affected by mountaintop mining operations, and to environmental resources that could be affected by the size and location of excess spoil-disposal sites in valley fills within the Appalachian study area in West Virginia, Kentucky, Virginia, and Tennessee. This FPEIS was prepared as part of a settlement agreement that resolved the Federal claims brought in Bragg v. Robertson, Civ. No. 2:98-0636 (S.D.W.Va.).

This FPEIS was prepared consistent with the provision set forth in 40 CFR 1503.4(c) of the Council on Environmental Quality regulations implementing NEPA, which allow the agencies to attach an errata sheet to the statement instead of rewriting the draft statement and to circulate the errata, comments, responses, and the changes, rather than the entire document. The agencies are filing the entire statement with a new cover sheet as the FPEIS. The FPEIS is being made available by mail and can be viewed on the Internet at http://www.epa.gov/region3/mtntop/index.htm. The FPEIS can also be viewed at local offices of the above agencies and at selected local libraries. Copies of the FPEIS may be obtained by writing to the address listed below.

ADDRESSES: Send written requests for copies of the FPEIS to John Forren, U.S. Environmental Protection Agency (3EA30), 1650 Arch Street, Philadelphia, PA 19103.

FOR FURTHER INFORMATION CONTACT: John Forren, U.S. Environmental Protection Agency, at (215) 814-2705; Katherine Trott, U.S. Army Corps of Engineers, at (202) 761-5542; Mike Robinson, U.S. Office of Surface Mining, at (412) 937-2882; Cindy Tibbott, U.S. Fish and Wildlife Service, at (814) 234-4090; or Russell Hunter, West Virginia Department of Environmental Protection, at (304) 926-0499.

Dated: October 20, 2005.
Gerald W. Barnes,
Chief, Operations, Directorate of Civil Works.
David Evans,
Director, Wetlands Division, Environmental Protection Agency.
Glenda H. Owens,
Deputy Director, Office of Surface Mining.
Marshall P. Jones, Jr.
Deputy Director, Fish and Wildlife Service.

[FR Doc. 05-21474 Filed 10-27-05; 8:45 am]

BILLING CODE 3710-92-P